EVIRONMENTAL PROTECTION AGENCY

40 CFR Part 52

[EPA-R02-2015-NY2; FRL-9935-51-Region 2]

Approval and Promulgation of Air Quality Implementation Plans; New York; Update to Materials Incorporated by Reference

AGENCY: Environmental Protection Agency (EPA).

ACTION: Final rule; administrative change.

SUMMARY: The Environmental Protection Agency (EPA) is updating the materials that are incorporated by reference (IBR) into the New York State Implementation Plan (SIP). The regulations affected by this update have been previously submitted by the New York State Department of Environmental Conservation and approved by EPA. This update affects the SIP materials that are available for public inspection at the National Archives and Records Administration (NARA), and the EPA Regional Office.

DATES: This rule is effective April 20, 2016.

ADDRESSES: SIP materials which are incorporated by reference into 40 CFR part 52 are available for inspection at the following locations: Environmental Protection Agency, Region 2 Office, Air Programs Branch, 290 Broadway, 25th Floor, New York, New York 10007-1866; and the National Archives and Records Administration (NARA). For information on the availability of this material at NARA, call 202-741-6030, or go to: www.archives.gov/federal-register/cfr/ibr-locations.html. To view the material at the Region 2 Office, EPA requests that you email the contact listed in the FOR FURTHER INFORMATION CONTACT section.

FOR FURTHER INFORMATION CONTACT: Kirk J. Wieber, Air Programs Branch, Environmental Protection Agency, 290 Broadway, 25th floor, New York, NY 10008-1866, telephone number (212) 637-3381, email: wieber.kirk@epa.gov.

SUPPLEMENTARY INFORMATION:

I. Background

The SIP is a living document which a state revises as necessary to address its unique air pollution problems. Therefore, EPA, from time to time, must take action on SIP revisions containing new and/or revised regulations as being part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On July 15, 2011 (76 FR 41705), EPA published a document in the Federal Register beginning the revised IBR procedure for New York.

This Final Rule continues the revised IBR procedure for New York. In this document, EPA is publishing an updated set of tables listing the regulatory (i.e., IBR) materials in the New York SIP taking into account the additions, corrections and revisions to those materials previously submitted by the state agency and approved by EPA. We are removing the EPA Headquarters Library from paragraph (b)(3), as IBR materials are no longer available at this location. In addition, EPA has found errors in certain entries listed in 40 CFR 52.1670(c), as amended in the published IBR update actions listed above, and is correcting them in this document.

Since the July 15, 2011 publication of the new IBR procedure, EPA has approved changes to the following regulations and sections for New York:

A. Added Regulations

1. Additions of the following regulations or sections in Title 6 of the New York Code of Rules and Regulations:

a. Part 240, Conformity to State or Federal Implementation Plans of Transportation Plans, Programs and Projects Developed, Funded or Approved Under Title 23 U.S.C. or the Federal Transit Laws, and

b. Part 241, Asphalt Pavement and Asphalt Based Surface Coating, and

c. Part 249, Best Available Retrofit Technology (BART).

2. Additions of the following regulations or sections in Title 19 of the New York Code of Rules and Regulations:

a. Part 937, Access to Publicly Available Records.

3. Additions of the following regulations or sections in the New York Environmental Conservation Law:

a. Section 19-0325.

4. Additions of the following regulations or sections in the New York Public Officers Law:

a. Section 73-a, Financial disclosure.

B. Revised Regulations

1. Revisions to the following regulations or sections in Title 6 of the New York Code of Rules and Regulations:

a. Part 200, General Provisions,

i. Subpart 200.1, and

ii. Subpart 200.9.

b. Part 205, Architectural and Industrial Maintenance (AIM) Coatings.

c. Part 211, General Prohibitions.

d. Part 212, General Process Emission.

e. Part 217, Motor Vehicle Emissions.

i. Subpart 217-1, Motor Vehicle Enhanced Inspection and Maintenance Program Requirements Until December 31, 2010,

ii. Subpart 217-4, Inspection and Maintenance Program Audits Until December 31, 2010, and

iii. Subpart 217-6, Motor Vehicle Enhanced Inspection and Maintenance Program Requirements Beginning January 1, 2011.

f. Part 220, Portland Cement Plants and Glass Plants.

g. Part 227, Stationary Combustion Installations,

i. Subpart 227-2, Reasonably Available Control Technology (RACT) For Major Facilities of Oxides of Nitrogen (NOX).

h. Part 228, Surface Coating Processes, Commercial and Industrial Adhesives, Sealants and Primers.

i. Part 234, Graphic Arts.

2. Revisions to the following regulations in Title 15 of the New York Code of Rules and Regulations:

a. Part 79, Motor Vehicle Inspection Regulations

i. Sections 79.1-79.15, 79.17, 79.20, 79.21, 79.24, 79.25.

C. Added State Source Specific Requirements

1. Alcoa Massena Operations (West Plant)—Potline S-00001, Baking furnace S-00002, Package Boilers B-00001, Permit ID 6-4058-00003.

2. Arthur Kill Generating Station, NRG—Boiler 30, Permit ID 2-6403-00014.

3. Bowline Generating Station, GenOn—Boilers 1 and 2, Permit ID 3-3922-00003.

4. Con Edison 59th Street Station—Steam Boilers 114 and 115, Permit ID 2-6202-00032.

5. EF Barrett Power Station, NG—Boiler 2, Permit ID 1-2820-00553.

6. International Paper Ticonderoga Mill—Power Boiler and Recovery Furnace, Permit ID 5-1548-00008.

7. Kodak Operations at Eastman Business Park, Kodak—Boilers 41, 42 and 43, Permit ID 8-2614-00205.

8. Lafarge Building Materials—Kilns 1 and 2, Permit ID 4-0124-00001.

9. Lehigh Northeast Cement, Lehigh Cement—Kiln and Clinker cooler, Permit ID 5-5205-00013.

10. Northport Power Station, NG—Boilers 1, 2, 3, and 4, Permit ID 1-4726-00130.

11. Oswego Harbor Power, NRG—Boilers 5 and 6, Permit ID 7-3512-00030.

12. Owens-Corning Insulating Systems Feura Bush, Owens Corning—EU2, EU3, EU12, EU13, and EU14, Permit ID 4-0122-00004.

13. Ravenswood Generating Station, TC—Boilers 10, 20, 30, Permit ID 2-6304-00024.

14. Ravenswood Steam Plant, Con Edison—Boiler 2, Permit ID 2-6304-01378.

15. Roseton Generating Station-Dynegy—Boilers 1 and 2, Permit ID 3-3346-00075.

16. Samuel A Carlson Generating Station, Jamestown Board of Public Utilities—Boiler 12, Permit ID 9-0608-00053.

17. Syracuse Energy Corporation [GDF Suez]—Boiler 1, Permit ID 7-3132-00052.

II. EPA Action

In this action, EPA is announcing the update to the IBR material as of August 1, 2015. EPA has determined this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Incorporation by Reference

In this rule, EPA is finalizing regulatory text that includes incorporation by reference. In accordance with requirements of 1 CFR 51.5, EPA is finalizing the incorporation by reference of the New York regulations described in the amendments to 40 CFR part 52 set forth below. EPA has made, and will continue to make, these documents generally available electronically through www.regulations.gov and/or at the appropriate EPA office (see the ADDRESSES section of this preamble for more information).

IV. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the New York SIP compilations previously afforded interested parties the opportunity to file a petition for judicial review in the United States Court of Appeals for the appropriate circuit within 60 days of such rulemaking action. Thus, EPA sees no need in this action to reopen the 60-day period for filing such petitions for judicial review for this “Identification of plan” reorganization update action for the State of New York.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: September 22, 2015.
Judith A. Enck,
Regional Administrator, Region 2.

For the reasons stated in the preamble, the Environmental Protection Agency amends 40 CFR part 52 as follows:

PART 52—APPROVAL AND PROMULGATION OF IMPLEMENTATION PLANS

1. The authority for citation for part 52 continues to read as follows:

Authority: 42 U.S.C. 7401 et seq.

Subpart HH—New York

2. In § 52.1670, paragraphs (b), (c), and (d) are revised to read as follows:

§ 52.1670 Identification of plan.

* * * * *

(b) Incorporation by reference. (1) Material listed in paragraphs (c) and (d) of this section with an EPA approval date prior to August 1, 2015, was approved for incorporation by reference by the Director of the Federal Register in accordance with 5 U.S.C. 552(a) and 1 CFR part 51. Material is incorporated as it exists on the date of the approval, and notification of any change in the material will be published in the Federal Register. Entries in paragraphs (c) and (d) of this section with an EPA approval date after August 1, 2015, will be incorporated by reference in the next update to the SIP compilation.

(2) EPA Region 2 certifies that the rules/regulations provided by the EPA in the SIP compilation at the addresses in paragraph (b)(3) of this section are an exact duplicate of the officially promulgated State rules/regulations, which have been approved as part of the SIP as of August 1, 2015.

(3) Copies of the materials incorporated by reference may be inspected at the Environmental Protection Agency, Region 2, Air Programs Branch, 290 Broadway, New York, New York 10007; and the National Archives and Records Administration (NARA). For information on the availability of this material at NARA, call (202) 741-6030, or go to: www.archives.gov/federal-register/cfr/ibr-locations.html.

(c) EPA approved regulations.

EPA-Approved New York State Regulations and Laws
State citation | Title/subject | State effective date | EPA approval date | Comments
Title 6, Part 200, Subpart 200.1 | General Provisions, Definitions | 1/1/11 | 7/12/13 | • The word odor is removed from the Subpart 200.1(d) definition of “air contaminant or air pollutant.”
|  |  |  | • Redesignation of non-attainment areas to attainment areas (200.1(av)) does not relieve a source from compliance with previously applicable requirements as per letter of Nov. 13, 1981 from H. Hovey, NYSDEC.
|  |  |  | • Changes in definitions are acceptable to EPA unless a previously approved definition is necessary for implementation of an existing SIP regulation.
|  |  |  | • EPA is including the definition of “Federally enforceable” with the understanding that (1) the definition applies to provisions of a Title V permit that are correctly identified as Federally enforceable, and (2) a source accepts operating limits and conditions to lower its potential to emit to become a minor source, not to “avoid” applicable requirements.
|  |  |  | • EPA approval finalized at 78 FR 41846.
Title 6, Part 200, Subpart 200.6 | General Provisions, Acceptable ambient air quality | 2/25/00 | 4/22/08 | • EPA approval finalized at 73 FR 21548.
Title 6, Part 200, Subpart 200.7 | General Provisions, Maintenance of equipment | 2/25/00 | 4/22/08 | • EPA approval finalized at 73 FR 21548.
Title 6, Part 200, Subpart 200.9 | Referenced material | 1/1/11 | 7/12/13 | • EPA is approving reference documents that are not already Federally enforceable. • EPA approval finalized at 78 FR 41846.
Title 6, Part 201 | Permits and Registrations | 4/4/93 | 10/3/05 | • This action removes subpart 201.5(e) from the State's Federally approved SIP. • EPA approval finalized at 70 FR 57511.
Title 6, Part 201,Subpart 201-2.1(b)(21) | Permits and Registrations, Definitions | 3/5/09 | 11/17/10 | • EPA is including the definition of “Major stationary source or major source or major facility” with the understanding that the definition applies only to provisions of part 231. • EPA approval finalized at 75 FR 70142.
Title 6, Part 201, Subpart 201-7.1 | Permits and Registrations, Federally Enforceable Emission Caps | 7/7/96 | 10/3/05 | • EPA approval finalized at 70 FR 57511.
Title 6, Part 201, Subpart 201-7.2 | Permits and Registrations, Emission Capping Using Synthetic Minor Permits | 7/7/96 | 10/3/05 | • EPA approval finalized at 70 FR 57511.
Title 6, Part 202 | Emissions Testing, Sampling and Analytical Determinations | 3/24/79 | 11/12/81 | • EPA approval finalized at 46 FR 55690.
Title 6, Part 202, Subpart 202-2 | Emission Statements | 5/29/05 | 10/31/07 | • Section 202-2.3(c)(9) requires facilities to report individual HAPs that may not be classified as criteria pollutants or precursors to assist the State in air quality planning needs. EPA will not take SIP-related enforcement action on these pollutants. • EPA approval finalized at 72 FR 61530.
Title 6, Part 204 | NOX Budget Trading Program | 2/25/00 | 5/22/01 | • Incorporates NOX SIP Call and NOX Budget Trading Program for 2003 and thereafter. • EPA approval finalized at 66 FR 28063.
Title 6, Part 205 | Architectural and Industrial Maintenance (AIM) Coatings | 1/1/11 | 3/8/12 | • EPA approval finalized at 77 FR 13974.
Title 6, Part 207 | Control Measures for an Air Pollution Episode | 2/22/79 | 11/12/81 | • EPA approval finalized at 46 FR 55690.
Title 6, Part 211 | General Prohibitions | 1/1/11 | 3/8/12 | • Section 211.1 (previously numbered 211.2) is not part of the approved plan. (see 11/27/98, 63 FR 65559). • EPA approval finalized at 77 FR 13974.
Title 6, Part 212 | General Process Emission Sources | 9/30/10 | 7/12/13 | • SIP revisions submitted in accordance with § 212.10(c)(3) and 212.12(c) are effective only if approved by EPA. • EPA approval finalized at 78 FR 41846.
Title 6, Part 213 | Contaminant Emissions from Ferrous Jobbing Foundries | 5/1/72 | 9/22/72 | • EPA approval finalized at 37 FR 19814.
Title 6, Part 214 | By-Product Coke Oven Batteries | 9/22/94 | 7/20/06 | • EPA approval finalized at 71 FR 41163.
Title 6, Part 215 | Open Fires | 6/16/72 | 9/22/72 | • EPA approval finalized at 37 FR 19814.
Title 6, Part 216 | Iron and/or Steel Processes | 9/22/94 | 7/20/06 | • EPA approval finalized at 71 FR 41163.
Title 6, Part 217, Subpart 217-1 | Motor Vehicle Emissions, Motor Vehicle Enhanced Inspection and Maintenance Program Requirements Until December 31, 2010 | 12/5/10 | 2/28/12 | • EPA approval finalized at 77 FR 11742.
Title 6, Part 217, Subpart 217-4 | Motor Vehicle Emissions, Inspection and Maintenance Program Audits Until December 31, 2010 | 12/5/10 | 2/28/12 | • EPA approval finalized at 77 FR 11742.
Title 6, Part 217, Subpart 217-6 | Motor Vehicle Emissions, Motor Vehicle Enhanced Inspection and Maintenance Program Requirements Beginning January 1, 2011 | 12/5/10 | 2/28/12 | • EPA approval finalized at 77 FR 11742.
Title 6, Part 218, Subpart 218-1 | Emission Standards for Motor Vehicles and Motor Vehicle Engines, Applicability and Definitions | 12/28/00 | 1/31/05 | • EPA's approval of part 218 only applies to light-duty vehicles. • EPA approval finalized at 70 FR 4773.
Title 6, Part 218, Subpart 218-2 | Emission Standards for Motor Vehicles and Motor Vehicle Engines, Certification and Prohibitions | 12/28/00 | 1/31/05 | • EPA's approval of part 218 only applies to light-duty vehicles.
|  |  |  | • EPA approval finalized at 70 FR 4773.
Title 6, Part 218, Subpart 218-3 | Emission Standards for Motor Vehicles and Motor Vehicle Engines, Fleet Average | 12/28/00 | 1/31/05 | • EPA's approval of part 218 only applies to light-duty vehicles.
|  |  |  | • EPA approval finalized at 70 FR 4773.
Title 6, Part 218, Subpart 218-4 | Emission Standards for Motor Vehicles and Motor Vehicle Engines, Zero Emissions Vehicle Sales Mandate | 5/28/92 | 1/6/95 | • EPA's approval of part 218 only applies to light-duty vehicles.
|  |  |  | • EPA approval finalized at 60 FR 2025.
Title 6, Part 218, Subpart 218-5 | Emission Standards for Motor Vehicles and Motor Vehicle Engines, Testing | 12/28/00 | 1/31/05 | • EPA's approval of part 218 only applies to light-duty vehicles.
|  |  |  | • EPA approval finalized at 70 FR 4773.
Title 6, Part 218, Subpart 218-6 | Emission Standards for Motor Vehicles and Motor Surveillance | 12/28/00 | 1/31/05 | • EPA's approval of part 218 only applies to light-duty vehicles.
|  |  |  | • EPA approval finalized at 70 FR 4773.
Title 6, Part 218, Subpart 218-7 | Emission Standards for Motor Vehicles and Motor Vehicle Engines, Aftermarket Parts | 12/28/00 | 1/31/05 | • EPA's approval of part 218 only applies to light-duty vehicles.
|  |  |  | • EPA approval finalized at 70 FR 4773.
Title 6, Part 218, Subpart 218-8 | Emission Standards for Motor Vehicles and Motor Vehicle Engines, Severability | 12/28/00 | 1/31/05 | • EPA's approval of part 218 only applies to light-duty vehicles.
|  |  |  | • EPA approval finalized at 70 FR 4773.
Title 6, Part 219 | Incinerators | 5/1/72 | 9/22/72 | • EPA approval finalized at 37 FR 19814.
Title 6, Part 220 | Portland Cement Plants and Glass Plants | 7/11/10 | 7/12/13 | • SIP revisions submitted in accordance with § 220-1.6(b)(4) and 220-2.3(a)(4) are effective only if approved by EPA.
|  |  |  | • EPA approval finalized at 78 FR 41846.
Title 6, Part 222 | Incinerators—New York City, Nassau and Westchester Counties | 6/17/72 | 9/22/72 | • EPA approval finalized at 37 FR 19814.
Title 6, Part 223 | Petroleum Refineries | 8/9/84 | 7/19/85 | • EPA approval finalized at 50 FR 29382.
Title 6, Part 224 | Sulfuric and Nitric Acid Plants | 5/10/84 | 7/19/85 | • Variances adopted by the State pursuant to Part 224.6(b) become applicable only if approved by EPA as SIP revisions. • EPA approval finalized at 50 FR 29382.
Title 6, Part 225, Subpart 225-1 | Fuel Composition and Use-Sulfur Limitations | 3/24/79 | 11/12/81 | • Variances adopted by the State pursuant to §§ 225.2(b) and (c), 225.3, and 225.5(c) become applicable only if approved by EPA or SIP revisions (40 CFR 52.1675(e)). • EPA approval finalized at 46 FR 55690.
Title 6, Part 225, Subpart 225-2 | Fuel Composition and Use-Waste Fuel | 7/28/83 | 8/2/84 | • EPA approval finalized at 49 FR 30936.
Title 6, Part 225, Subpart 225-3 | Fuel Composition and Use-Gasoline | 11/4/01 | 9/8/05 | • The Variance adopted by the State pursuant to section 225-3.5 becomes applicable only if approved by EPA as a SIP revision. • EPA approval finalized at 70 FR 53304.
Title 6, Part 226 | Solvent Metal Cleaning Processes | 5/7/03 | 1/23/04 | • EPA approval finalized at 69 FR 3237.
Title 6, Part 227, Subpart 227.2(b)(1) | Stationary Combustion Installations | 5/1/72 | 9/22/72 | • 1972 version. • EPA approval finalized at 37 FR 19814.
Title 6, Part 227,Subpart 227-1 | Stationary Combustion Installations | 2/25/00 | 5/22/01 | • Existing Part 227 is renumbered Subpart 227-1. • Renumbered sections 227-1.2(a)(2), 227-1.4(a), and 227-1.4(d) continue to be disapproved according to 40 CFR 52.1678(d) and 52.1680(a). (New York repealed existing Part 227.5.). • EPA approval finalized at 66 FR 28063.
Title 6, Part 227,Subpart 227-2 | Stationary Combustion Installations, Reasonably Available Control Technology (RACT) For Major Facilities of Oxides of Nitrogen (NOX) | 7/8/10 | 7/12/13 | • SIP revisions submitted in accordance with § 227-2.3(c) are effective only if approved by EPA. • EPA approval finalized at 78 FR 41846.
Title 6, Part 227,Subpart 227-3 | Stationary Combustion Installations, Pre-2003 Nitrogen Oxides Emissions Budget and Allowance Program | 3/5/99 | 5/22/01 | • Approval of NOX Budget Trading Program for 1999, 2000, 2001 and 2002. NOX caps in the State during 2003 and thereafter established in Part 204. • EPA approval finalized at 66 FR 28063.
Title 6, Part 228 | Surface Coating Processes, Commercial and Industrial Adhesives, Sealants and Primers | 6/5/13 | 3/4/14 | • EPA approval finalized at 79 FR 12082.
Title 6, Part 229 | Petroleum and Volatile Organic Liquid Storage and Transfer | 4/4/93 | 12/23/97 | • SIP revisions submitted in accordance with Section 229.3(g)(1) are effective only if approved by EPA. • EPA approval finalized at 62 FR 67006.
Title 6, Part 230 | Gasoline Dispensing Sites and Transport Vehicles | 9/22/94 | 4/30/98 | • EPA approval finalized at 63 FR 23668.
Title 6, Part 231 | New Source Review for New and Modified Facilities | 3/5/09 | 11/17/10 | • Partial approval; no action taken on provisions that may require PSD permits for sources of greenhouse gas (GHG) emissions with emissions below the thresholds identified in EPA's final PSD and Title V GHG Tailoring Rule at 75 FR 31514, 31606 (June 3, 2010). • EPA approval finalized at 75 FR 70140.
Title 6, Part 232 | Dry Cleaning | 8/11/83 | 6/17/85 | • EPA has not determined that § 232.3(a) provides for reasonably available control technology. • EPA approval finalized at 50 FR 25079.
Title 6, Part 233 | Pharmaceutical and Cosmetic Manufacturing Processes | 4/4/93 | 12/23/97 | • SIP revisions submitted in accordance with Section 223.3(h)(1) are effective only if approved by EPA. • EPA approval finalized at 62 FR 67006.
Title 6, Part 234 | Graphic Arts | 7/8/10 | 3/8/12 | • SIP revisions submitted in accordance with § 234.3(f) are effective only if approved by EPA. • EPA approval finalized at 77 FR 13974.
Title 6, Part 235 | Consumer Products | 10/15/09 | 5/28/10 | • EPA approval finalized at 75 FR 29897.
Title 6, Part 236 | Synthetic Organic Chemical Manufacturing Facility Component Leaks | 1/12/92 | 7/27/93 | • Variances adopted by the State pursuant to Part 236.6(e)(3) become applicable only if approved by EPA as a SIP revision. • EPA approval finalized at 58 FR 40059.
Title 6, Part 239 | Portable Fuel Container Spillage Control | 7/30/09 | 5/28/10 | • The specific application of provisions associated with alternate test methods, variances and innovative products, must be submitted to EPA as SIP revisions. • EPA approval finalized at 75 FR 29897.
Title 6, Part 240, Subpart 240-1 | Transportation Conformity, Transportation Conformity General Provisions | 9/13/13 | 7/29/14 | • EPA approval finalized at 79 FR 43945.
Title 6, Part 240, Subpart 240-2 | Transportation Conformity, Consultation | 9/13/13 | 7/29/14 | • EPA approval finalized at 79 FR 43945.
Title 6, Part 240, Subpart 240-3 | Transportation Conformity, Regional Transportation-Related Emissions and Enforceability | 9/13/13 | 7/29/14 | • EPA approval finalized at 79 FR 43945.
Title 6, Part 241 | Asphalt Pavement and Asphalt Based Surface Coating | 1/1/11 | 3/8/12 | • EPA approval finalized at 77 FR 13974.
Title 6, Part 243 | CAIR NOX Ozone Season Trading Program | 10/19/07 | 1/24/08 | • EPA approval finalized at 73 FR 4112.
Title 6, Part 244 | CAIR NOX Annual Trading Program | 10/19/07 | 1/24/08 | • EPA approval finalized at 73 FR 4112.
Title 6, Part 245 | CAIR SO2Trading Program | 10/19/07 | 1/24/08 | • EPA approval finalized at 73 FR 4112.
Title 6, Part 249 | Best Available Retrofit Technology (BART) | 5/6/10 | 8/28/12 | • EPA approval finalized at 77 FR 51915.
Title 15, Part 79, Subparts 79.1-79.15, 79.17, 79.20, 79.21, 79.24, 79.25 | Motor Vehicle Inspection Regulations | 12/29/10 | 2/28/12 | • EPA approval finalized at 77 FR 11742.
Title 19, Part 937 | Access To Publicly Available Records | 8/27/12 | 6/20/13 | • Only subpart 937.1(a) is approved into the SIP and is for the limited purpose of satisfying Clean Air Act Section 128(a)(2). • EPA approval finalized at 78 FR 37124.
Section 19-0325 | Environmental Conservation Law, Sulfur reduction requirements | 7/15/10 | 8/28/12 | • EPA approval finalized at 77 FR 51915.
Section 73-a | Public Officers Law, Financial disclosure | 8/15/11 | 6/20/13 | • Only subsections 73-a(2)(a)(i) and (ii) are approved into the SIP and are for the limited purpose of satisfying Clean Air Act Section 128(a)(2). • EPA approval finalized at 78 FR 37124.

(d) EPA approved State source-specific requirements.

EPA-Approved New York Source-Specific Provisions
Name of source | Identifier No. | State effective date | EPA approval date | Comments
Dunlop Tire and Rubber Corporation | Consent Order 81-36, 9-0420 | 8/19/81 | 1/26/84 | • Part 212 VOC RACT Compliance Plan. • Green tire spraying, bead dipping, and under tread and tread end cementing processes. • EPA approval finalized at 49 FR 3436.
Dunlop Tire and Rubber Corporation | Consent Order 81-36, 9-0420, Amendment Letter 1 | 1/29/82 | 1/26/84 | • Part 212 VOC RACT Compliance Plan. • Green tire spraying, bead dipping, and under tread and tread end cementing processes. • EPA approval finalized at 49 FR 3436.
Dunlop Tire and Rubber Corporation | Consent Order 81-36, 9-0420, Amendment Letter 2 | 3/3/82 | 1/26/84 | • Part 212 VOC RACT Compliance Plan. • Green tire spraying, bead dipping, and under tread and tread end cementing processes. • EPA approval finalized at 49 FR 3436.
Morton International Inc. | A563203003500027C | 9/1/95 | 9/23/97 | • Part 227-2, NOX RACT determination. • Emission point 00027. • EPA approval finalized at 62 FR 49617.
Morton International Inc. | A563203003500027C, Special Conditions | 8/23/95 | 9/23/97 | • Part 227-2, NOX RACT determination. • Emission point 00027. • EPA approval finalized at 62 FR 49617.
University of Rochester | 8-2614-00548/00006-0 | 4/25/96 | 9/23/97 | • Part 227-2, NOX RACT determination. • Emission points 00003 and 0005. • EPA approval finalized at 62 FR 49617.
University of Rochester | 8-2614-00548/00006-0, Special Conditions | 3/19/96 | 9/23/97 | • Part 227-2, NOX RACT determination. • Emission points 00003 and 0005. • EPA approval finalized at 62 FR 49617.
Algonquin Gas Transmission Company | 3-3928-1/9-0 | 9/23/91 | 9/23/97 | • Part 227-2, NOX RACT determination. • Emission Points R0100, R0200, R0300, and R0400. • Permit and Special Conditions. • EPA approval finalized at 62 FR 49617.
Algonquin Gas Transmission Company | 3-3928, Special Conditions | 3/18/96 | 9/23/97 | • Part 227-2, NOX RACT determination. • Emission Points R0100, R0200, R0300. • EPA approval finalized at 62 FR 49617.
Algonquin Gas Transmission Company | 3-3928-00001/00013 | 3/29/96 | 9/23/97 | • Part 227-2, NOX RACT determination. • Emission Point R0400. • EPA approval finalized at 62 FR 49617.
Algonquin Gas Transmission Company | 3-39228-00001/00010,11,12,13 | 8/8/96 | 9/23/97 | • Permit Correction. • Part 227-2, NOX RACT determination. • Emission Points R0100, R0200, R0300, and R0400. • EPA approval finalized at 62 FR 49617.
Tenneco Gas Corporation's (also known as Tenneco Gas Pipeline Company and Tennessee Gas Pipeline Company) | 144000 | 8/22/95 | 7/21/03 | • Part 227-2, NOX RACT determination. • Compressor Station 229. • Emission Points 0001A through 0006A. • EPA approval finalized at 68 FR 42981.
Tenneco Gas Corporation's (also known as Tenneco Gas Pipeline Company and Tennessee Gas Pipeline Company) | 215600, Special Conditions | 2/24/97 | 7/21/03 | • Part 227-2, NOX RACT determination. • Compressor Station 245. • Emission Points 00001 through 00006. • EPA approval finalized at 68 FR 42981.
Tenneco Gas Corporation's (also known as Tenneco Gas Pipeline Company and Tennessee Gas Pipeline Company) | 102600 | 10/4/95 | 7/21/03 | • Part 227-2, NOX RACT determination. • Compressor Station 254. • Emission Points 00001 through 00006. • EPA approval finalized at 68 FR 42981.
Tenneco Gas Corporation's (also known as Tenneco Gas Pipeline Company and Tennessee Gas Pipeline Company) | 102600,Special Conditions | 9/15/95 | 7/21/03 | • Part 227-2, NOX RACT determination. • Compressor Station 254. • Emission Points 00001 through 00006. • EPA approval finalized at 68 FR 42981.
General Chemical Corporation | 7-3132-00009/00012 | 12/16/97 | 7/1/04 | • Part 212, NOX RACT determination. 6/23/05 letter informing NYSDEC that the approval will automatically convert to a disapproval. • Emission Points 0SN1A and 0SN1B. • EPA approval finalized at 69 FR 39858.
ALCOA Massena Operations (West Plant) | 6-4058-00003 | 3/20/12 | 8/28/12 | • Part 249 BART. • Emission Points Potline S-00001, Baking furnace S-00002, Package Boilers B-00001. • EPA approval finalized at 77 FR 51915.
Arthur Kill Generating Station, NRG | 2-6403-00014 | 3/20/12 | 8/28/12 | • Part 249 BART. • Boiler 30. • EPA approval finalized at 77 FR 51915.
Bowline Generating Station, GenOn | 3-3922-00003 | 6/28/12 | 8/28/12 | • Part 249 BART. • Boilers 1 and 2. • EPA approval finalized at 77 FR 51915.
Con Edison 59th Street Station | 2-6202-00032 | 3/20/12 | 8/28/12 | • Part 249 BART. • Steam Boilers 114 and 115. • EPA approval finalized at 77 FR 51915.
EF Barrett Power Station, NG | 1-2820-00553 | 3/27/12 | 8/28/12 | • Part 249 BART. • Boiler 2. • EPA approval finalized at 77 FR 51915.
International Paper Ticonderoga Mill | 5-1548-00008 | 3/19/12 | 8/28/12 | • Part 249 BART. • Power Boiler and Recovery Furnace. • EPA approval finalized at 77 FR 51915.
Kodak Operations at Eastman Business Park, Kodak | 8-2614-00205 | 5/25/12 | 8/28/12 | • Part 249 BART. • Boilers 41, 42 and 43. • EPA approval finalized at 77 FR 51915.
Lafarge Building Materials | 4-0124-00001 | 7/19/11 | 8/28/12 | • Condition 12-14. • Kilns 1 and 2. • EPA approval finalized at 77 FR 51915.
Lehigh Northeast Cement, Lehigh Cement | 5-5205-00013 | 7/5/12 | 8/28/12 | • Part 220 and Part 249 BART. • Kiln and Clinker cooler. • EPA approval finalized at 77 FR 51915.
Northport Power Station, NG | 1-4726-00130 | 3/27/12 | 8/28/12 | • Part 249 BART. • Boilers 1, 2, 3, and 4. • EPA approval finalized at 77 FR 51915.
Oswego Harbor Power, NRG | 7-3512-00030 | 5/16/12 | 8/28/12 | • Part 249 BART. • Boilers 5 and 6. • EPA approval finalized at 77 FR 51915.
Owens-Corning Insulating Systems Feura Bush, Owens Corning | 4-0122-00004 | 5/18/12 | 8/28/12 | • Part 249 BART. • EU2, EU3, EU12, EU13, and EU14. • EPA approval finalized at 77 FR 51915.
Ravenswood Generating Station, TC | 2-6304-00024 | 4/6/12 | 8/28/12 | • Part 249 BART. • Boilers 10, 20, 30. • EPA approval finalized at 77 FR 51915.
Ravenswood Steam Plant, Con Edison | 2-6304-01378 | 3/20/12 | 8/28/12, | • Part 249 BART. • Boiler 2. • EPA approval finalized at 77 FR 51915.
Roseton Generating Station-Dynegy | 3-3346-00075 | 11/02/11 | 8/28/12 | • Excluding the SO2 BART emissions limits for Boilers 1 and 2 and corresponding monitoring, recordkeeping, and reporting requirements, which EPA disapproved. • Boilers 1 and 2. • EPA approval finalized at 77 FR 51915.
Samuel A Carlson Generating Station, James town Board of Public Utilities | 9-0608-00053 | 2/8/12 | 8/28/12 | • Part 249 BART. • Boiler 12. • EPA approval finalized at 77 FR 51915.
Syracuse Energy Corporation [GDF Suez] | 7-3132-00052 | 5/24/12 | 8/28/12 | • Part 249 BART. • Boiler 1. • EPA approval finalized at 77 FR 51915.

* * * * *

[FR Doc. 2016-08829 Filed 4-19-16; 8:45 am]

BILLING CODE 6560-50-P